FEDERAL MARITIME COMMISSION

Notice of Agreement(s) Filed

The Commission hereby gives notice of the filing of the following agreement(s) under the Shipping Act of 1984. Interested parties can review or obtain copies of agreements at the Washington, DC offices of the Commission, 800 North Capitol Street NW., Room 940. Interested parties may submit comments on an agreement to the Secretary, Federal Maritime Commission, Washington, DC 20573, within 10 days of the date this notice appears in the Federal Register.

Agreement Nos.: 011510-019, -020.

Title: West Africa Discussion Agreement.

Parties:

A.P. Moller-Maersk Sealand;

Atlantic Bulk Carriers, Ltd.;

HUAL A/S;

P&O Nedlloyd Limited;

Safmarine Container Lines NV; and

Zim Israel Navigation Co., Ltd. Corp.

Synopsis: The first amendment removes Maersk Sealand as a party to the agreement and the second amendment removes Safmarine as a party.

Dated: September 17, 2003.
By Order of the Federal Maritime Commission.
Bryant L. VanBrakle,
Secretary.

[FR Doc. 03-24187 Filed 9-22-03; 8:45 am]

BILLING CODE 6730-01-P